DEPARTMENT OF TREASURY

Office of the Thrift Supervision

[AC-06: OTS Nos. 01427, H4049, H4050, and H4348]

Osage Federal Bank, Osage Federal MHC, Osage Federal Financial, Inc., and Osage Bancshares, Inc., Pawhuska, Oklahoma; Approval of Conversion Application.

Notice is hereby given that on November 9, 2006, the Assistant Managing Director, Examinations and Supervision—Operations, Office of Thrift Supervision (OTS), or her designee, acting pursuant to delegated authority, approved the application of osage Federal MHC and Osage Federal Bank, Pawhuska, Oklahoma, to convert to the stock form of organization. Copies of the application are available for inspection by appointment phone number: 202-906-5922 or e-mail: Public.Info@OTS.Treas.gov) at the Public Reading Room, 1700 G Street, NW., Washington, DC 20552, and OTS Midwest Regional Office, 225 East John Carpenter Freeway, Suite 500, Irving, TX 75062-2731.

Dated: December 22, 2006.
By the Office of Thrift Supervision.
Sandra E. Evans,
Legal Information Assistant.

[FR Doc. 06-9914 Filed 12-28-06; 8:45 am]

BILLING CODE 6720-01-M